DEPARTMENT OF ENERGY

Federal Energy Regulatory Commission

Combined Notice of Filings #1

Take notice that the Commission received the following exempt wholesale generator filings:

Docket Numbers: EG21-166-000.

Applicants: Trent River Solar Mile Lessee, LLC.

Description: Self-Certification of Exempt Wholesale Generator of Trent River Solar Mile Lessee, LLC.

Filed Date: 6/10/21.

Accession Number: 20210610-5082.

Comments Due: 5 p.m. ET 7/1/21.

Docket Numbers: EG21-167-000.

Applicants: Golden Hills Wind Farm LLC.

Description: Notice of Self-Certification of Exempt Wholesale Generator Status of Golden Hills Wind Farm LLC.

Filed Date: 6/10/21.

Accession Number: 20210610-5107.

Comments Due: 5 p.m. ET 7/1/21.

Take notice that the Commission received the following electric rate filings:

Docket Numbers: ER21-669-002.

Applicants: Morongo Transmission LLC.

Description: Compliance Filing of Morongo Transmission LLC to the May 5, 2021 Order.

Filed Date: 6/4/21.

Accession Number: 20210604-5191.

Comments Due: 5 p.m. ET 6/25/21.

Docket Numbers: ER21-1319-001.

Applicants: Duke Energy Progress, LLC.

Description: Compliance filing: DEP ROE Settlement Compliance Filing to be effective 1/1/2021.

Filed Date: 6/10/21.

Accession Number: 20210610-5114.

Comments Due: 5 p.m. ET 7/1/21.

Docket Numbers: ER21-2075-001.

Applicants: Public Service Company of Colorado.

Description: Tariff Amendment: 2021-06-10 PSC-TSGT-WAPA-PRPA-Boundary Meter-595-Amnd-0.0.1 to be effective 8/1/2021.

Filed Date: 6/10/21.

Accession Number: 20210610-5032.

Comments Due: 5 p.m. ET 7/1/21.

Docket Numbers: ER21-2103-000.

Applicants: Caney River Wind Project, LLC.

Description: Petition for Limited Waiver, et al. of Caney River Wind Project, LLC.

Filed Date: 6/9/21.

Accession Number: 20210609-5036.

Comments Due: 5 p.m. ET 6/21/21.

Docket Numbers: ER21-2111-000.

Applicants: Nevada Power Company.

Description: § 205(d) Rate Filing: Service Agreement No. 21-00014 NPC and Leeward to be effective 8/9/2021.

Filed Date: 6/9/21.

Accession Number: 20210609-5135.

Comments Due: 5 p.m. ET 6/30/21.

Docket Numbers: ER21-2112-000.

Applicants: RE Mustang Two Whirlaway LLC.

Description: § 205(d) Rate Filing: RE Mustang Two Whirlaway LLC Amended and Restated Shared Facilities Agreement to be effective 6/10/2021.

Filed Date: 6/9/21.

Accession Number: 20210609-5136.

Comments Due: 5 p.m. ET 6/30/21.

Docket Numbers: ER21-2113-000.

Applicants: Midcontinent Independent System Operator, Inc., International Transmission Company.

Description: § 205(d) Rate Filing: 2021-06-10_SA 3664 ITC-DTE Amended GIOA to be effective 8/10/2021.

Filed Date: 6/10/21.

Accession Number: 20210610-5043.

Comments Due: 5 p.m. ET 7/1/21.

Docket Numbers: ER21-2114-000.

Applicants: Southwest Power Pool, Inc.

Description: § 205(d) Rate Filing: Kansas Power Pool, Inc. Tariff Revisions to Revise Depreciation Rates to be effective 7/1/2021.

Filed Date: 6/10/21.

Accession Number: 20210610-5070.

Comments Due: 5 p.m. ET 7/1/21.

Docket Numbers: ER21-2115-000.

Applicants: Virginia Electric and Power Company, PJM Interconnection, L.L.C.

Description: § 205(d) Rate Filing: Dominion submits Briel Farm WDSA, SA No. 5974 to be effective 6/2/2021.

Filed Date: 6/10/21.

Accession Number: 20210610-5104.

Comments Due: 5 p.m. ET 7/1/21.

Take notice that the Commission received the following qualifying facility filings:

Docket Numbers: QF21-981-000.

Applicants: Shell Chemical Appalachia LLC.

Description: Form 556 of Shell Chemical Appalachia LLC.

Filed Date: 6/10/21.

Accession Number: 20210610-5056.

Comments Due: Non-Applicable.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 10, 2021.
Debbie-Anne A. Reese,
Deputy Secretary.

[FR Doc. 2021-12698 Filed 6-15-21; 8:45 am]

BILLING CODE 6717-01-P